DEPARTMENT OF COMMERCE

International Trade Administration

A-570-909

Certain Steel Nails From the People's Republic of China: Initiation of Antidumping Duty New Shipper Review

AGENCY: Import Administration, International Trade Administration, Department of Commerce.

EFFECTIVE DATE: September 25, 2009.

SUMMARY: The Department of Commerce (“Department”) has determined that a request for a new shipper review of the antidumping duty order on certain steel nails from the People's Republic of China (“PRC”), received on August 24, 2009, meets the statutory and regulatory requirements for initiation. The period of review (“POR”) of this new shipper review is January 23, 2008, - July 31, 2009.

FOR FURTHER INFORMATION CONTACT: Matthew Renkey, AD/CVD Operations, Office 9, Import Administration, International Trade Administration, U.S. Department of Commerce, 14th Street and Constitution Avenue, NW, Washington, DC 20230; telephone: (202) 482-2312.

SUPPLEMENTARY INFORMATION:

Background

The antidumping duty order on certain steel nails from the PRC was published in the Federal Register on August 1, 2008. See Notice of Antidumping Duty Order: Certain Steel Nails From the People's Republic of China, 73 FR 44961 (August 1, 2008) (“Order”). On August 24, 2009, we received a timely request for a new shipper review from Maanshan Leader Metal Products Co., Ltd. (“Maanshan Leader”) in accordance with 19 CFR 351.214(c) and 351.214(d)(2). Maanshan Leader has certified that it is both the producer and exporter of the subject merchandise upon which the request for the new shipper review is based.

Initiation of New Shipper Review

Pursuant to section 751(a)(2)(B)(i)(I) of the Tariff Act of 1930, as amended (“Act”), and 19 CFR 351.214(b)(2)(i), Maanshan Leader certified that it did not export certain steel nails to the United States during the period of investigation (“POI”). Pursuant to section 751(a)(2)(B)(i)(II) of the Act and 19 CFR 351.214(b)(2)(iii)(A), Maanshan Leader certified that, since the initiation of the investigation, it has never been affiliated with any exporter or producer who exported certain steel nails to the United States during the POI, including those not individually examined during the investigation. As required by 19 CFR 351.214(b)(2)(iii)(B), Maanshan Leader has also certified that its export activities are not controlled by the central government of the PRC.

In addition to the certifications described above, Maanshan Leader submitted documentation establishing the following: (1) the date on which it first shipped certain steel nails for export to the United States and the date on which the certain steel nails first entered, or withdrawn from warehouse, for consumption; (2) the volume of its first shipment; and (3) the date of its first sales to an unaffiliated customer in the United States.

Pursuant to section 751(a)(2)(B)(ii) of the Act and 19 CFR 351.214(d)(1), we are initiating this new shipper review for shipments of certain steel nails from the PRC produced and exported by Maanshan Leader.

We intend to issue preliminary results of this review no later than 180 days from the date of initiation, and final results of these reviews no later than 270 days from the date of initiation. See section 751(a)(2)(B)(iv) of the Act.

We will instruct U.S. Customs and Border Protection to allow, at the option of the importer, the posting, until the completion of the review, of a bond or security in lieu of a cash deposit for each entry of the subject merchandise from Maanshan Leader in accordance with section 751(a)(2)(B)(iii) of the Act and 19 CFR 351.214(e). Because Maanshan Leader certified that it both produced and exported the subject merchandise, the sale of which is the basis for this new shipper review request, we will apply the bonding privilege to Maanshan Leader only for subject merchandise which Maanshan Leader both produced and exported.

Interested parties requiring access to proprietary information in this new shipper review should submit applications for disclosure under administrative protective order in accordance with 19 CFR 351.305 and 351.306. This initiation and notice are in accordance with section 751(a)(2)(B) of the Act and 19 CFR 351.214 and 351.221(c)(1)(i).

Dated: September 21, 2009.
John M. Andersen,
Acting Deputy Assistant Secretary for Antidumping and Countervailing Duty Operations.

[FR Doc. E9-23246 Filed 9-24-09; 8:45 am]

BILLING CODE 3510-DS-S